DEPARTMENT OF ENERGY

Federal Energy Regulatory Commission

Combined Notice of Filings #2

Take notice that the Commission received the following electric corporate filings:

Docket Numbers: EC12-74-000.

Applicants: AES Red Oak, L.L.C.

Description: Section 203 Application of AES Red Oak, L.L.C.

Filed Date: 2/21/12.

Accession Number: 20120221-5215.

Comments Due: 5 p.m. ET 3/13/12.

Take notice that the Commission received the following electric rate filings:

Docket Numbers: ER11-3417-001; ER10-2895-004; ER11-2292-003; ER11-3942-002; ER11-2293-003; ER10-2917-004; ER11-2294-003; ER10-2918-005; ER12-199-003; ER10-2920-004; ER11-3941-002; ER10-2921-004; ER10-2922-004; ER10-3048-002; ER10-2966-004.

Applicants: Alta Wind VIII, LLC, Bear Swamp Power Company LLC, Brookfield Energy Marketing Inc., Brookfield Energy Marketing LP, Brookfield Energy Marketing US LLC, Brookfield Power Piney & Deep Creek LLC, Brookfield Renewable Energy Marketing US LLC, Carr Street Generating Station, L.P., Coram California Development, L.P., Erie Boulevard Hydropower, L.P., Granite Reliable Power, LLC, Great Lakes Hydro America, LLC, Hawks Nest Hydro LLC, Longview Fibre Paper and Packaging, Inc., Rumford Falls Hydro LLC.

Description: Non-Material Change in Status of Alta Wind VIII, LLC, et al.

Filed Date: 2/21/12.

Accession Number: 20120221-5193.

Comments Due: 5 p.m. ET 3/13/12.

Docket Numbers: ER12-199-002.

Applicants: Coram California Development, L.P.

Description: Non-Material Change in Status of Coram California Development, L.P.

Filed Date: 2/17/12.

Accession Number: 20120217-5208.

Comments Due: 5 p.m. ET 3/9/12.

Docket Numbers: ER12-1016-001.

Applicants: Appalachian Power Company.

Description: 20120220 Att K and L Revisions Correction to be effective 3/2/2012.

Filed Date: 2/21/12.

Accession Number: 20120221-5131.

Comments Due: 5 p.m. ET 3/13/12.

Docket Numbers: ER12-1122-000.

Applicants: Southwestern Public Service Company.

Description: 2-20-12_RS135 SPS-GSEC RPSA to be effective 4/20/2012.

Filed Date: 2/21/12.

Accession Number: 20120221-5133.

Comments Due: 5 p.m. ET 3/13/12.

Docket Numbers: ER12-1123-000.

Applicants: ITC Midwest LLC.

Description: Filing of Certificates of Concurrence to be effective 4/23/2012.

Filed Date: 2/21/12.

Accession Number: 20120221-5066.

Comments Due: 5 p.m. ET 3/13/12.

Docket Numbers: ER12-1124-000.

Applicants: PJM Interconnection, L.L.C.

Description: PJM Original Service Agreement No. 3205; Queue No. W4-011 to be effective 1/20/2012.

Filed Date: 2/21/12.

Accession Number: 20120221-5136.

Comments Due: 5 p.m. ET 3/13/12.

Docket Numbers: ER12-1125-000.

Applicants: Interstate Power and Light Company.

Description: IPL and FCW—LBA Agreement to be effective 9/24/2012.

Filed Date: 2/21/12.

Accession Number: 20120221-5138.

Comments Due: 5 p.m. ET 3/13/12.

Docket Numbers: ER12-1126-000.

Applicants: PJM Interconnection, L.L.C.

Description: PJM Original Service Agreement No. 3206; Queue No. W4-014 to be effective 1/20/2012.

Filed Date: 2/21/12.

Accession Number: 20120221-5139.

Comments Due: 5 p.m. ET 3/13/12.

Docket Numbers: ER12-1127-000.

Applicants: Interstate Power and Light Company.

Description: IPL and FCW—CFC Agreement to be effective 9/24/2012.

Filed Date: 2/21/12.

Accession Number: 20120221-5142.

Comments Due: 5 p.m. ET 3/13/12.

Docket Numbers: ER12-1128-000.

Applicants: PJM Interconnection, L.L.C.

Description: PJM OA Section 11.3 re Member and Affiliate Information Updates to be effective 4/30/2012.

Filed Date: 2/21/12.

Accession Number: 20120221-5147.

Comments Due: 5 p.m. ET 3/13/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 21, 2012.
Nathaniel J. Davis, Sr.,
Deputy Secretary.

[FR Doc. 2012-4794 Filed 2-28-12; 8:45 am]

BILLING CODE 6717-01-P